DEPARTMENT OF HEALTH AND HUMAN SERVICES

Administration for Children and Families

Submission for OMB Review; Comment Request

Title: Interstate Referral Guide (IRG).

OMB No.: 0970-0209.

Description: The purpose of the Intergovernmental Referral Guide (IRG) project is to provide States, Foreign Nations and Tribes with an effective and efficient way of viewing and updating their profiles with child support enforcement policies and procedures, and their address and location code information by consolidating data available through numerous discrete sources into a centralized, automated repository.

Respondents: State IV-D Child Support Programs, Foreign Nation Child Support Programs and Tribes.

Annual Burden Estimates
Instrument | Number of respondents | Number of responses per respondent | Average burden hours per response | Total burden hours
IRG State User Guide (Foreign Nations ) | 23 | 2 | 0.10 | 4.60
IRG Tribal User Guide | 44 | 18 | 0.30 | 237.60
IRG State User Guide (States and Territories) | 54 | 18 | 0.30 | 291.60

Estimated Total Annual Burden Hours: 533.80.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: December 1, 2008.
Janean Chambers,
Reports Clearance Officer.

[FR Doc. E8-28728 Filed 12-3-08; 8:45 am]

BILLING CODE 4184-01-P